DEPARTMENT OF HOUSING AND URBAN DEVELOPMENT

[Docket No. FR-5193-N-04]

Notice of Proposed Information Collection to OMB: Assessing Quality of Life Issues in FEMA's Alternative Housing Pilot Program (AHPP)—Household Outcomes Survey

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: May 20, 2008.

ADDRESSES: Interested persons are invited to submit comments regarding this proposal. Comments should refer to the proposal by name and/or OMB Control Number and should be sent to: Reports Liaison Officer, Office of Policy Development and Research, Department of Housing and Urban Development, 451 7th Street, SW., Room 8234, Washington, DC 20410-5000.

FOR FURTHER INFORMATION CONTACT: Harold R. Holzman, (202) 402-5709 for copies of the proposed forms and other available documents. (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, (e.g., permitting electronic submission of responses).

This Notice also lists the following information:

Title of Proposal: Assessing Quality of Life Issues in FEMA's Alternative Housing Pilot Program (AHPP)—Household Outcomes Survey.

Description of need for the information and proposed use: The Alternative Housing Pilot Program (AHPP) (Pub. L. 109-234, Sec. 2403) is providing FEMA funds to four states (Alabama, Louisiana, Mississippi, and Texas) to test alternative housing types that could be used in place of FEMA trailers or mobile homes following a future disaster.

The goal of the AHPP Quality of Life (QOL) study is to provide FEMA with a rigorous evaluation of the quality of life outcomes for AHPP recipients in the four states that received AHPP grants. Over the four-year study, the evaluation will assess a range of outcomes, including households' economic and employment situations, physical and mental health status, and changes in housing satisfaction.

Household surveys will be the primary tool for evaluating the impact of AHPP on program participants' quality of life. Baseline surveys will be administered during each grantee program's start-up period, using the OMB-approved Alternative Housing Pilot Program Evaluation Baseline Survey (OMB Control Number 2528-0248; ICR Reference Number 200705-2528-001). A follow-up Household Outcomes Survey will be administered twice during the remaining evaluation period to capture data on outcomes; the Household Outcomes Survey is the subject of this notification. The survey will be conducted using a mixed mode approach, by telephone with in-person follow-up. Each survey interview will take approximately 45 minutes. The selection of survey participants will differ across the four states. When possible, a random assignment research design will be implemented and households that are determined eligible for AHPP but do not receive an AHPP unit will form the control group. Otherwise, surveys will be conducted with a random sample of AHPP participants.

Members of the Affected Public: AHPP participants.

Estimation of the total number of hours needed to prepare the information collection, including the number of respondents, frequency of response, and hours of response:

AHPP household outcomes survey | Number of respondents | Frequency of response | Burden per respondent (Hours) | Total respondent burden (Hours)
First Household Outcomes Survey | 1612 | 1 | .75 | 1209
Second Household Outcomes Survey | 1612 | 1 | .75 | 1209
Total | 3224 | 2 | 1.50 | 2418

Status of the proposed information collection: Pending OMB approval.

Authority: Section 3506 of the Paperwork Reduction Act of 1995, 44 U.S.C. Chapter 35, as amended.

Dated: March 14, 2008.
Darlene F. Williams,
Assistant Secretary for Policy Development and Research.

[FR Doc. E8-5792 Filed 3-20-08; 8:45 am]

BILLING CODE 4210-67-P